INTERNATIONAL TRADE COMMISSION

[Investigation No. 337-TA-1254]

Certain Semiconductor Devices, Wireless Infrastructure Equipment Containing the Same, and Components Thereof; Notice of a Commission Determination Not To Review an Initial Determination Granting a Joint Motion To Terminate the Investigation in Its Entirety Based Upon Settlement; Termination of Investigation

AGENCY: U.S. International Trade Commission.

ACTION: Notice.

SUMMARY: Notice is hereby given that the U.S. International Trade Commission (“Commission”) has determined not to review an initial determination (“ID”) (Order No. 7) of the presiding administrative law judge (“ALJ”), granting an unopposed motion to terminate the investigation in its entirety based upon settlement.

FOR FURTHER INFORMATION CONTACT: Panyin A. Hughes, Office of the General Counsel, U.S. International Trade Commission, 500 E Street SW, Washington, DC 20436, telephone (202) 205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On March 10, 2021, the Commission instituted this investigation based on a complaint filed by Samsung Electronics Co., Ltd. of Republic of Korea and Samsung Austin Semiconductor, LLC of Austin, Texas (collectively, “Samsung”). 86 FR 13733 (Mar. 10, 2021). The complaint alleged violations of section 337 based on the importation into the United States, the sale for importation, or the sale within the United States after importation of certain semiconductor devices, wireless infrastructure equipment containing the same, and components thereof by reason of infringement of claims 1-4 and 6-20 of U.S. Patent No. 9,748,243; claims 1-15 of U.S. Patent No. 9,018,697; claims 1-3, 6-8, 10-14, 16, 19, 20, 23, 24, and 26-29 of U.S. Patent No. 9,048,219; and claims 1, 5-11, 13, 15, and 18 of U.S. Patent No. 9,761,719. Id. The Commission's notice of investigation named as respondents, Ericsson AB and Telefonaktiebolaget LM Ericsson both of Stockholm, Sweden, and Ericsson Inc. of Plano, Texas (collectively, “Ericsson”). Id. The notice of investigation did not name the Office of Unfair Import Investigations as a party. Id.

On May 14, 2021, Samsung and Ericsson filed a joint motion to terminate the investigation in its entirety based upon settlement.

On July 8, 2021, the ALJ issued the subject ID (Order No. 7) granting the motion. The subject ID found that the joint motion complies with Commission Rule 210.21(a)(2), which provides that “[a]ny party may move at any time to terminate an investigation in whole or in part as to any or all respondents on the basis of a settlement, a licensing or other agreement . . . .” ID at 1 (citing 19 CFR 210.21(a)(2)). The ID observed that “Samsung and Ericsson have entered into a Global Patent License Agreement that includes an agreement to terminate this Investigation in its entirety,” and in accordance with Commission Rule 210.21(b)(1) state that “[t]here are no other agreements, written or oral, expressed or implied between Samsung and Ericsson concerning the subject matter of this Investigation.” ID at 1-2 (citing 19 CFR 210.21(b)(1)). In addition, the parties provided confidential and public versions of the settlement agreement. The ID further noted that the parties agree that termination of this investigation “will not have any adverse effect of the public health and welfare and/or competitive conditions in the United States” and that “[t]ermination will also conserve the parties' respective resources and those of the Commission.” Id. at 2. No one petitioned for review of the ID.

The Commission has determined not to review the subject ID. The investigation is hereby terminated in its entirety.

The Commission vote for this determination took place on July 30, 2021.

The authority for the Commission's determination is contained in section 337 of the Tariff Act of 1930, as amended (19 U.S.C. 1337), and in Part 210 of the Commission's Rules of Practice and Procedure (19 CFR part 210).

By order of the Commission.
Issued: July 30, 2021.
Katherine Hiner,
Supervisory Attorney.

[FR Doc. 2021-16656 Filed 8-4-21; 8:45 am]

BILLING CODE 7020-02-P